DEPARTMENT OF HEALTH AND HUMAN SERVICES

Health Resources and Services Administration

Advisory Committee Meetings; Correction

In FR Doc. 01-28108 appearing on pages 56689-56690 in the issue for Friday, November 9, 2001, the dates and location of some Health Professions and Nurse Education Special Emphasis Panel meetings have changed. The meeting scheduled on April 22-25, 2002, has changed to March 18-21, 2002; the meeting on April 29-May 2, 2002, has changed to April 2-5, 2002; the meeting on May 6-9, 2002, has changed to April 15-18, 2002; and the location of these meetings has changed to the Hilton Silver Spring. The correct information is as follows:

Name: Health Careers Opportunity Program Peer Review Group.

Date and Time: March 18-21, 2002.

Place: Hilton Silver Spring, 8727 Colesville Road, Silver Spring, MD 20910.

Open on: March 18, 2002, 8 a.m. to 10 a.m.

Closed on: March 18, 2002, 10 a.m. to adjournment (approximately 6 p.m.), March 19-21, 2002, 8 a.m. to adjournment (approximately 6 p.m.).

Name: Basic Nurse Education and Practice Grants Program Peer Review Group I.

Date and Time: April 2-5, 2002.

Place: Hilton Silver Spring, 8727 Colesville Road, Silver Spring, MD 20910.

Open on: April 2, 2002, 8 a.m. to 10 a.m.

Closed on: April 2, 2002, 10 a.m. to adjournment (approximately 6 p.m.), April 3-5, 2002, 8 a.m. to adjournment (approx. 6 p.m.).

Name: Basic Nurse Education and Practice Grants Program Peer Review Group II.

Date and Time: April 15-18, 2002.

Place: Hilton Silver Spring, 8727 Colesville Road, Silver Spring, MD 20910.

Open on: April 15, 2002, 8 a.m. to 10 a.m.

Closed on: April 15, 2002, 10 a.m. to adjournment (approximately 6 p.m.), April 16-18, 2002, 8 a.m. to adjournment (approximately 6 p.m.).

Dated: February 26, 2002.
Jane M. Harrison,
Director, Division of Policy Review and Coordination.

[FR Doc. 02-5132 Filed 3-4-02; 8:45 am]

BILLING CODE 4165-15-P